ENVIRONMENTAL PROTECTION AGENCY

[FRL—FRL-10003-68-OA]

Notification of a Public Meeting of the Chartered Science Advisory Board

AGENCY: Environmental Protection Agency (EPA).

ACTION: Notice.

SUMMARY: The Environmental Protection Agency (EPA) Science Advisory Board (SAB) Staff Office announces a public meeting of the chartered SAB to discuss its reviews of the following proposed rules: (1) National Emission Standards for Hazardous Air Pollutants: Coal- and Oil-Fired Electric Utility Steam Generating Units—Reconsideration of Supplemental Finding and Residual Risk and Technology Review; (2) The Safer Affordable Fuel-Efficient (SAFE) Vehicles Rule for Model Years 2021-2026 Passenger Cars and Light Trucks; (3) Strengthening Transparency in Regulatory Science; and (4) Revised Definition of “Waters of the United States.”

DATES: The public meeting of the chartered Science Advisory Board will be held on Friday, January 17, 2020, from 1:00 p.m. to 5:00 p.m. (Eastern Time), Tuesday, January 21, 2020, from 1:00 to 5:00 p.m. (Eastern Time), Wednesday, January 22, from 1:00 p.m. to 5:00 p.m. (Eastern Time), and Friday, January 24, 2020, from 1:00 p.m. to 5:00 p.m. (Eastern Time). The chartered SAB will hear oral public comments on January 17, 2020.

ADDRESSES: The meeting will be conducted by telephone only.

FOR FURTHER INFORMATION CONTACT: Any member of the public who wants further information concerning the public meeting may contact Dr. Thomas Armitage, Designated Federal Officer (DFO), EPA Science Advisory Board (1400R), U.S. Environmental Protection Agency, 1200 Pennsylvania Avenue NW, Washington, DC 20460; via telephone/voice mail (202) 564-2155, or email at armitage.thomas@epa.gov. General information concerning the SAB can be found on the EPA website at http://www.epa.gov/sab.

SUPPLEMENTARY INFORMATION:

Background: The SAB was established pursuant to the Environmental Research, Development, and Demonstration Authorization Act (ERDDAA), codified at 42 U.S.C. 4365, to provide independent scientific and technical advice to the Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss its reviews of the scientific and technical basis of four proposed rules. Under the SAB's authorizing statute, the SAB “may make available to the Administrator, within the time specified by the Administrator, its advice and comments on the adequacy of the scientific and technical basis” of proposed rules. At a public meeting held on June 5-6, 2019, the SAB discussed whether to review the scientific and technical basis of major EPA actions in the Spring 2018 regulatory agenda. The SAB decided to provide advice and comments on the scientific and technical basis of the following proposed rules: (1) National Emission Standards for Hazardous Air Pollutants: Coal- and Oil-Fired Electric Utility Steam Generating Units—Reconsideration of Supplemental Finding and Residual Risk and Technology Review; (2) The Safer Affordable Fuel-Efficient (SAFE) Vehicles Rule for Model Years 2021-2026 Passenger Cars and Light Trucks; (3) Strengthening Transparency in Regulatory Science; and (4) Revised Definition of “Waters of the United States.” The purpose of the meeting described in this notice is to discuss draft reports developed by SAB workgroups.

Availability of Meeting Materials: Prior to the meeting, an agenda and other meeting materials will be placed on the SAB website at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should contact the DFO directly.

Oral Statements: In general, individuals or groups requesting an oral presentation at a public teleconference will be limited to three minutes. Persons interested in providing oral statements on January 17, 2020, should contact Dr. Thomas Armitage, DFO, in writing (preferably via email) at the contact information noted above by January 10, 2020, to be placed on the list of registered speakers.

Written Statements: Written statements will be accepted throughout the advisory process; however, for timely consideration by SAB members, statements should be received in the SAB Staff Office by January 10, 2020. Written statements should be supplied to the DFO at the contact information above via email (preferred) or in hard copy with original signature. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Dr. Armitage at the phone number or email address noted above, preferably at least ten days prior to the meeting, to give the EPA as much time as possible to process your request.

Dated: December 16, 2019.
Khanna Johnston,
Deputy Director, EPA Science Advisory Board Staff Office.

[FR Doc. 2019-28012 Filed 12-30-19; 8:45 am]

BILLING CODE 6560-50-P